DEPARTMENT OF ENERGY

Federal Energy Regulatory Commission

[Docket Nos. CP05-352-000 and CP05-355-000]

National Fuel Gas Supply Corporation; Tennessee Gas Pipeline Company; Notice of Intent To Prepare an Environmental Assessment for the Proposed Northeast Connexion-NY/NJ Project and Request for Comments on Environmental Issues

June 3, 2005.

The staff of the Federal Energy Regulatory Commission (FERC or Commission) will prepare an environmental assessment (EA) that will discuss the environmental impacts of the Northeast ConneXion-NY/NJ Project involving construction and operation of facilities by Tennessee Gas Pipeline Company (Tennessee) and National Fuel Gas Supply Corporation (National) in Bradford, Potter, and Susquehanna Counties, Pennsylvania, and Bergen County, New Jersey. Tennessee's and National's project purpose is to increase capacity on Tennessee's Line 300 by up to 50,000 dekatherms per day (Dth/d) and 51,500 Dth/d of incremental storage deliverability to Public Service Electric and Gas Company. In general, the project consists of about 6.0 miles of pipeline, adding additional compression at both the 313 and 317 Compressor Stations, upgrades to the Ramsey Meter Station, and enhancement of dehydration facilities at Compressor Station 313.

This notice announces the opening of the scoping period that will be used to gather environmental input from the public and interested agencies on the project. Please note that the scoping period will close on July 5, 2005.

This notice is being sent to potentially affected landowners; federal, state, and local government agencies; elected officials; environmental and public interest groups; Native American Tribes; other interested parties; local libraries and newspapers. State and local government representatives are asked to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings. It is available for viewing on the FERC Internet Web site (http://www.ferc.gov).

Summary of the Proposed Project

Tennessee ¹ proposes to:

¹ National's interest in the project is in the modification of the dehydration tower at Compressor Station 313 in Potter County, Pennsylvania. This project, (Docket No. CP05-352-000), was filed with the Commission under section 7 of the Natural Gas Act and Part 157 of the Commission's regulations. Any reference to Tennessee from this point forth will refer to the overall project which includes National's interests.

• Construct ² two separate 30-inch-diameter pipeline loops ³ (2.0 miles in Bradford County and 4.0 miles in Susquehanna County, Pennsylvania);

² Tennessee's application was filed with the Commission under section 7 of the Natural Gas Act and Part 157 of the Commission's regulations.

³ A loop is a segment of pipeline installed adjacent to an existing pipeline and which connects to the existing pipeline at both ends of the loop. The loop allows more gas to be moved through the system.

• Construct a pig launcher, receiver, and mainline valve (MLV) on the Bradford County loop, and a pig launcher and MLV on the Susquehanna County loop;

• Add 2,370 horsepower (hp) of compression and enhanced dehydration facilities at Tennessee's existing Compressor Station 313 in Potter County, Pennsylvania;

• Uprate an existing compressor unit from 6,330 hp to 13,400 hp through modifications to computer software at Compressor Station 317 in Bradford County, Pennsylvania; and

• Upgrade the existing Ramsey Meter Station in Bergen County, New Jersey. The upgrade would consist of replacing 250 feet of 8-inch-diameter pipe with 16 inch-diameter pipe and replacement of a 4-inch ultrasonic meter with an 8-inch ultrasonic meter.

The general location of Tennessee's proposed facilities is shown on the map attached as Appendix 1.⁴

⁴ The appendices referenced in this notice are not being printed in the Federal Register. Copies of all appendices, other than appendix 1 (maps), are available on the Commission's website at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of Tennessee's proposed facilities would require about 113.7 acres of land for the construction right-of-way for the pipelines, additional temporary workspaces, staging areas, and access roads. Of this land, 18.63 would be permanently maintained by Tennessee. The construction right-of-way for the pipelines would typically be 100 feet wide with 25 feet overlapping Tennessee's permanently maintained existing right-of-way in uplands. In wetland areas it would be reduced to 75 feet. Following construction, a 50-foot-wide permanent right-of-way would be maintained.

At Compressor Stations 313 and 317 and the Ramsey Meter Station, the proposed work would take place within the existing fee-owned property or easement boundaries. These areas are included in the above acreage estimates.

Construction access to Tennessee's project would be via existing and new access roads. Tennessee has identified nine existing private access roads and four new access roads necessary for the construction of its project.

The EA Process

We ⁵ are preparing the EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. By this notice, we are also asking Federal, State, and local agencies with jurisdiction and/or special expertise with respect to environmental issues to formally cooperate with us in the preparation of the EA. Agencies that would like to request cooperating status should follow the instructions for filing comments below.

⁵ “We”, “us”, and “our”, refer to the environmental staff of the Office of Energy Projects (OEP).

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

Currently Identified Environmental Issues

In the EA, we will discuss impacts that could occur as a result of the construction and operation of the project. We will also evaluate possible alternatives to the proposed project or portions of the project.

We have already identified some issues that we think deserve attention based on a preliminary review of the proposed facilities and the environmental information provided by Tennessee. This preliminary list of issues may be changed based on your comments and our analysis.

Project-related impact on:

• Pipeline crossings of four perennial waterbodies, three of which are cold water fisheries in Susquehanna County, Pennsylvania;

• Eleven wetland crossings;

• Noise and air quality;

• Nearby residences; and

• Groundwater and wells due to blasting in areas of shallow bedrock.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., N.E., Room 1A, Washington, DC 20426;

• Label one copy of the comments for the attention of Gas Branch 1.

• Reference Docket Nos. CP05-355-000, et al.

• Mail your comments so that they will be received in Washington, DC on or before July 6, 2005.

Please note that the Commission strongly encourages electronic filing of any comments or interventions or protests to this proceeding. See 18 CFR 385.2001(a)(1)(iii) and the instructions on the Commission's Web site at http://www.ferc.gov under the “e-Filing” link and the link to the User's Guide. Before you can file comments you will need to create an account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's e-Filing system) or 14 paper copies of its filings to the Secretary of the Commission and must send a copy of its filings to all other parties on the Commission's service list for this proceeding. If you want to become an intervenor, you must file a motion to intervene according to Rule 214 of the Commission's Rules of Practice and Procedure (18 CFR 385.214, see Appendix 2).⁶ Only intervenors have the right to seek rehearing of the Commission's decision.

⁶ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Linda Mitry,
Deputy Secretary.

[FR Doc. E5-2959 Filed 6-8-05; 8:45 am]

BILLING CODE 6717-01-P